DEPARTMENT OF TRANSPORTATION

Federal Highway Administration

Environmental Impact Statement: Jefferson County, MO

AGENCY: Federal Highway Administration (FHWA), DOT.

ACTION: Notice of intent.

SUMMARY: The FHWA is issuing this notice to advise the public that an Environmental Impact Statement (EIS) will be prepared for proposed improvements to Route MM between Route 21 and Route 30 in Jefferson County, Missouri.

FOR FURTHER INFORMATION CONTACT: Ms. Peggy J. Casey, Environmental Projects Engineer, FHWA Division Office, 3220 West Edgewood, Suite H, Jefferson City, MO 65109, Telephone: (573) 636-7104; or Mr. Kevin Keith, Chief Engineer, Missouri Department of Transportation, P.O. Box 270, Jefferson City, MO 65102, Telephone: (573) 751-2803.

SUPPLEMENTARY INFORMATION: The FHWA, in cooperation with the Missouri Department of Transportation (MoDOT), will prepare an EIS to investigate the possible relocation or reconstruction of Route MM between Route 21 and Route 30 in Jefferson County, Missouri. A location study will run concurrently with the preparation of the EIS and will provide definitive alternatives for evaluation in the EIS. The EIS will fully analyze the issues, problems, and potential social and environmental impacts associated with improving or realigning Route MM. The goals of the proposed action are to increase capacity, reduce congestion, and improve safety.

The proposed project is located between Route 21 on the east and Route 30 on the west, entirely within Jefferson County. The project is approximately 4.3 miles in length.

Alternatives under consideration include (1) no build; (2) improvements to the existing alignment; (3) new alignments; (4) safety improvements; and (5) transportation management options.

To date, preliminary information has been issued to local officials and other interested parties. As part of the scoping process, an interagency coordination meeting will be held with federal and state resource agencies. In addition, informational meetings with the public and community representatives will be held to solicit input on the project and a reasonable range of alternatives. A location public hearing will be held to present the findings of the draft EIS (DEIS). Public notice will be given announcing the time and place of all public meetings and the hearing. The DEIS will be available for public and agency review and comment prior to the public hearing.

To ensure that the full range of issues related to this proposed action are addressed and all significant issues are identified, comments and suggestions are invited from all interested parties. Comments and questions concerning this proposed action and the EIS should be directed to the FHWA or MoDOT at the addresses provided above. Concerns in the study area include potential impacts to natural resources, cultural resources, neighborhoods, and the community of House Springs, located at the western end of the study area. Improvements to the existing alignment could impact cultural resources, adjacent residences, and the House Springs business district. Realignment of Route MM could impact a large undeveloped, wooded area with significant topographic relief, potentially crossing several streams and floodplains.

(Catalog of Federal Domestic Assistance Program Number 20.205, Highway Planning and Construction. The regulations implementing Executive Order 12372 regarding intergovernmental consultation on Federal programs and activities apply to this program.)

Issued on: December 12, 2007.
Peggy J. Casey,
Environmental Project Engineer, Jefferson City.

[FR Doc. E7-24572 Filed 12-18-07; 8:45 am]

BILLING CODE 4910-22-P